DEPARTMENT OF HEALTH AND HUMAN SERVICES

Administration for Children and Families

Proposed Information Collection Activity; Community Services Block Grant (CSBG) Model Tribal Plan and Application (New Collection)

AGENCY: Office of Community Services, Administration for Children and Families, U.S. Department of Health and Human Services.

ACTION: Request for public comments.

SUMMARY: The Office of Community Services (OCS), Administration for Children and Families (ACF), requests an approval of the Community Services Block Grant (CSBG) Model Tribal Plan.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: Section 677 of the CSBG Act requires Indian tribes or tribal organizations to submit an application and plan (CSBG Model Tribal Plan). The CSBG Model Tribal Plan must meet statutory requirements prior to OCS awarding CSBG tribal grant recipients with CSBG funds. Tribal grant recipients have the option to submit a detailed plan annually or biannually. Tribal grant recipients that submit a biannual plan must provide an abbreviated plan the following year if substantial changes to the initial plan will occur. The CSBG Model Tribal Plan has been used in previous years without OMB approval. To come into compliance with the PRA, ACF is submitting the CSBG Model Tribal Plan as a new request to OMB.

Respondents: Tribal grant recipients (tribes and tribal organizations)

Annual Burden Estimates
Instrument | Total number of respondents | Annual number of responses per respondent | Average burden hours per response | Annual burden hours
CSBG Model Tribal Plan | 66 | 1 | 10 | 660

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Sec. 677, Pub. L. 105-285, 112 Stat. 2742 (42 U.S.C. 9911)

Mary C. Jones,
ACF/OPRE Certifying Officer.

[FR Doc. 2024-08668 Filed 4-22-24; 8:45 am]

BILLING CODE 4184-27-P